DEPARTMENT OF ENERGY

Federal Energy Regulatory Commission

[Docket Nos. RP00-463-004, and RP00-600-002

Williston Basin Interstate Pipeline Company; Notice of Compliance Filing

July 12, 2002.

Take notice that on June 28, 2002, Williston Basin Interstate Pipeline Company (Williston Basin), tendered for filing as part of its FERC Gas Tariff, Second Revised Volume No. 1, the tariff sheets listed on Appendix A to the filing.

Williston Basin states that the revised tariff sheets are being filed to comply with the requirements of the Commission's June 17, 2002 “Order on Rehearing and Compliance Filing” in the above referenced dockets.

Any person desiring to protest said filing should file a protest with the Federal Energy Regulatory Commission, 888 First Street, NE., Washington, DC 20426, in accordance with Section 385.211 of the Commission's Rules and Regulations. All such protests must be filed on or before July 19, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18095 Filed 7-17-02; 8:45 am]

BILLING CODE 6717-01-P